DEPARTMENT OF THE INTERIOR

National Park Service

[NPS-WASO-NRNHL-0711-7884; 2280-665]

National Register of Historic Places; Notification of Pending Nominations and Related Actions

Nominations for the following properties being considered for listing or related actions in the National Register were received by the National Park Service before July 2, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington, DC 20005; or by fax, 202-371-6447. Written or faxed comments should be submitted by August 8, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Adams County

Brannan Sand and Gravel Pit #8—Lake Sangraco Boathouse Complex, Address Restricted, Denver

Larimer County

Peep O Day Park, 5445 Wild Ln., Loveland

Routt County

Solandt Memorial Hospital, 150 W. Jackson St., Hayden

DELAWARE

New Castle County

Rodney Square Historic District, Buildings fronting Rodney Sq. at 10th, 11th, Market and King Sts., Wilmington

IDAHO

Latah County

Bohman, Axel, House, 116 N. Main St. Troy

Troy Hospital, 604 S. Main St., Troy

MINNESOTA

Crow Wing County

Milford Mine Historic District, 1 mi. SW of jct. of MN 6 & Cty. Rd. 30, Wolford

MONTANA

Missoula County

Target Range Elementary School, 4095 South Ave., W., Missoula

NEBRASKA

Custer County

First National Bank—Steinmeier Building, 624 Main St., Ansley

Dodge County

Durkee, Charles T. House, 1125 N. Broad St., Fremont

Douglas County

Scottish Rite Cathedral 202 S. 20th St., Omaha

NEW MEXICO

Santa Fe County

La Armeria de Santa Fe, 1050 Old Pecos Trail, Santa Fe

WISCONSIN

Rock County

Grove Street Historic District, 103, 111, 112, 116, 119, 125, 126, 133 & 134 Grove St., Evansville

South First Street Residential Historic District, 341, 348, 349, 402, 408, 409, 412, 419, 433, 439 & 443 S. 1st St., Evansville

WYOMING

Sheridan County

Sheridan County Fairgrounds Historic District, 1753 Victoria St., Sheridan

[FR Doc. 2011-18471 Filed 7-21-11; 8:45 am]

BILLING CODE 4312-51-P